DEPARTMENT OF ENERGY

Federal Energy Regulatory Commission

[Project No. 1403-068]

Yuba County Water Agency; Notice of Scoping Meetings and Environmental Site Review and Soliciting Scoping Comments

Take notice that the following hydroelectric application has been filed with the Commission and available for public inspection.

a. Type of Application: New Major License.

b. Project No.: 1403-068.

c. Dated Filed: November 14, 2023.

d. Submitted By: Yuba County Water Agency (YCWA).

e. Name of Project: Narrows Hydroelectric Project (Narrows Project).

f. Location: At the U.S. Army Corps of Engineers' (Corps) Englebright Dam, located on the mainstem of the Yuba River northeast of the town of Smartsville in Yuba County, California. The project currently occupies 0.55 acre of Federal land managed by the Corps.

g. Filed Pursuant to: Federal Power Act, 16 U.S.C. 791(a)—825(r).

h. Applicant Contact: Willie Whittlesey, General Manager, Yuba County Water Agency, 1220 F Street, Marysville, CA 95901; (530) 741-5000; WWhittlesey@yubawater.org.

i. FERC Contact: Rebecca Kipp at (202) 502-8846 or email at rebecca.kipp@ferc.gov. Deadline for filing scoping comments: August 6, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U. S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Narrows Hydroelectric Project (P-1403-068).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

j. This application is not ready for environmental analysis at this time.

k. The Narrows Project consists of: (1) an adit portal connecting to the Corps' tunnel from Englebright Dam; (2) a 1,077-foot-long tunnel that connects the adit portal to the project penstock; (3) a 266-foot-long steel penstock pipe that connects the project tunnel to the project powerhouse; and (4) a reinforced concrete powerhouse containing a single 12-megawatt Francis turbine capable of passing up to 730 cubic feet per second (cfs). There are no recreation facilities at the project. The estimated average annual generation of the project is 52,887 megawatt-hours.

The Narrows Project operates as a run-of-river facility primarily through remote control using a Supervisory Control and Data Acquisition system. YCWA coordinates operations of the Narrows 1 powerhouse, which is a facility of the Narrows Project and the Narrows 2 powerhouse, which is a facility of YCWA's Yuba River Development Project No. 2246 located on the north bank of the river at the base of Englebright, to meet downstream flow requirements and irrigation water demands as follows: (1) lower flow requirements: when the required releases are less than the Narrows 1 powerhouse's current capacity, only Narrows 1 powerhouse operates; (2) moderate flow requirement up to 900 cfs: when the required releases exceed the Narrows 1 powerhouse's capacity but under 900 cfs, the Narrows 1 powerhouse operates at full capacity. The remaining required release is provided via Narrows 2 full or partial bypass; (3) high flow requirement over 900 cfs: when the release is over 900 cfs, the Narrows 2 powerhouse operates either independently or in conjunction with Narrows 1; (4) transitioning Narrows 1 online: if Narrows 2 is operating but Narrows 1 needs to come online, synchronization to the grid occurs while reducing Narrows 2 output; (5) as Narrows 1 gradually increases its load and water releases, Narrows 2 decreases its release to maintain the overall required flow; and (6) transitioning Narrows 2 online: if Narrows 1 is operating and Narrows 2 needs to come online, synchronization to the grid occurs while reducing Narrows 1 output, allowing Narrows 2 to supplement Narrows 1 load to meet the release requirements.

l. Copies of the application can be viewed on the Commission's website at https://www.ferc.gov, using the “eLibrary” link. Enter the project's docket number, excluding the last three digits in the docket number field, to access the document. For assistance, contact FERC Online Support.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595, or at OPP@ferc.gov.

m. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the NEPA document. An evening meeting will focus on receiving input from the public and a daytime meeting will focus on the concerns of resource agencies, non-governmental organizations (NGOs), and Indian Tribes. We invite all interested agencies, Indian Tribes, NGOs, and individuals to attend one or both meetings. The times and locations of these meetings are as follows:

Daytime Scoping Meeting

Date: Wednesday, July 10, 2024

Time: 10:00 a.m. (PST)

Place: Yuba Water Agency

Address: 1220 F Street, Marysville, CA 95901

Phone: (530) 741-5000

Evening Scoping Meeting

Date: Wednesday, July 10, 2024

Time: 6:00 p.m. (PST)

Place: Yuba Water Agency

Address: 1220 F Street, Marysville, CA 95901

Phone: (530) 741-5000

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The applicant and Commission staff will conduct an environmental site review of the project. All interested individuals, agencies, tribes, and NGOs are invited to attend. All participants are responsible for their own transportation to/from the project and during the site visit. Participants must wear sturdy, closed-toe shoes, or boots. Please RSVP to John James via email to jjames@yubawater.org on or before July 1, 2024, if you plan to attend the environmental site review. The time and location of the environmental site review is as follows:

Date: Tuesday, July 9, 2024

Time: 9:00 a.m. (PST)

Place: Yuba Water Agency (meet in parking lot)

Address: 1220 F Street, Marysville, CA 95901

Participants must meet at the Yuba Water Agency parking lot to begin promptly at 9:00 a.m. where participants will drive in personal vehicles together to the project.

Meeting Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Meeting participants should come prepared to discuss their issues and/or concerns. Please review SD1 in preparation for the scoping meetings. Directions on how to obtain a copy of SD1 are included in item n of this document.

Meeting Procedures

The meetings are recorded by a stenographer and become part of the formal record of the Commission proceeding on the project. Individuals, NGOs, Indian tribes, and agencies with environmental expertise and concerns are encouraged to attend the meeting and to assist the staff in defining and clarifying the issues to be addressed in the NEPA document.

Dated: June 7, 2024.
Debbie-Anne A. Reese,
Acting Secretary.

[FR Doc. 2024-12985 Filed 6-12-24; 8:45 am]

BILLING CODE 6717-01-P